DEPARTMENT OF AGRICULTURE

Agriculture Marketing Service

7 CFR Part 1215

[Docket No. AMS-FV-07-0022; FV-06-706]

Popcorn Promotion, Research, and Consumer Information Order; Section 610 Review

AGENCY: Agricultural Marketing Service, USDA.

ACTION: Notice of regulatory review and request for comments.

SUMMARY: This document announces the Agricultural Marketing Service's (AMS) review of the Popcorn Promotion, Research, and Consumer Information Order [Order] (conducted under the Popcorn Promotion, Research, and Consumer Information Act [Act]), under the criteria contained in Section 610 of the Regulatory Flexibility Act (RFA).

DATES: Written comments on this document must be received by April 30, 2007.

ADDRESSES: Interested persons are invited to submit written comments on the internet at: http://www.regulations.gov or to the Research and Promotion Branch, Fruit and Vegetable Programs, Agricultural Marketing Service, U.S. Department of Agriculture, Room 0635-S, Stop 0244, 1400 Independence Avenue, SW., Washington, DC 20250-0244; FAX: (202) 205-2800. All comments should reference the docket number and the date and page number of this issue of the Federal Register and will be made available for public inspection in the above office during regular business hours.

FOR FURTHER INFORMATION CONTACT: Deborah Simmons, Marketing Specialist, Research and Promotion Branch, FVP, AMS, USDA, Stop 0244, 1400 Independence Avenue, SW., Room 0635-S, Washington, DC 20250-0244; telephone: (888) 720-9917; fax: (202) 205-2800.

SUPPLEMENTARY INFORMATION: The Popcorn Promotion, Research, and Consumer Information Act of 1996, (7 U.S.C. 7481 et seq.) authorized the Popcorn Promotion, Research, and Consumer Information Order which is industry operated and funded, with oversight by USDA. The Popcorn Promotion, Research, and Consumer Information Order objective is to carry out an effective and continuous coordinated program of research, development, advertising, and promotion designed to strengthen popcorns' competitive position, and to maintain and expand domestic and foreign markets for popcorn and popcorn products.

The Popcorn Promotion, Research, and Consumer Information Order (7 CFR Part 1215) became effective on September 1, 1997, and was implemented in January 1998 when assessments began. The Popcorn Board (Board) collects assessments from processors of over four million pounds of popcorn per year, regardless of the country of origin of the popcorn. The assessment rate is 6 cents per hundredweight.

Assessments under this program are used to fund promotional campaigns and to conduct research in the areas of U.S. marketing, and international marketing and to enable it to exercise its duties in accordance with the Order.

The Popcorn Promotion, Research, and Consumer Information Order is administered by the Popcorn Board, which is composed of nine at-large processors who were appointed by the Secretary of Agriculture from nominations submitted by eligible processors. All processors of over four million pounds of popcorn annually are eligible to participate in the nomination process. All Board members serve terms of three years.

The Agricultural Marketing Service published in the Federal Register (71 FR 14828; March 24, 2006) its plan to review certain regulations, including the Popcorn Promotion, Research, and Consumer Information Order, (conducted under the Popcorn Promotion, Research, and Consumer Information Act), under criteria contained in Section 610 of the Regulatory Flexibility Act (RFA; 5 U.S.C. 601-612). Because many AMS regulations impact small entities, AMS decided, as a matter of policy, to review certain regulations which, although they may not meet the threshold requirement under section 610 of the RFA, warrant review. Accordingly, this notice and request for comments is made for the Popcorn Promotion, Research, and Consumer Information Order.

The purpose of the review is to determine whether the Popcorn Promotion, Research, and Consumer Information Order should be continued without change, amended, or rescinded (consistent with the objectives of the Popcorn Promotion, Research, and Consumer Information Act of 1996) to minimize the impacts on small entities. AMS will consider the continued need for the Popcorn Promotion, Research, and Consumer Information Order; the nature of complaints or comments received from the public concerning the Popcorn Promotion, Research, and Consumer Information Order; the complexity of the Popcorn Promotion, Research, and Consumer Information Order; the extent to which the Popcorn Promotion, Research, and Consumer Information Order overlaps, duplicates, or conflicts with other Federal rules, and, to the extent feasible, with State and local regulations; and the length of time since the Popcorn Promotion, Research, and Consumer Information Order has been evaluated or the degree to which technology, economic conditions, or other factors have changed in the area affected by the Popcorn Promotion, Research, and Consumer Information Order.

Written comments, views, opinions, and other information regarding the Popcorn Promotion, Research, and Consumer Information Order's impact on small businesses are invited.

Authority: 7 U.S.C. 7481-7491.

Dated: February 20, 2007.
Lloyd C. Day,
Administrator, Agricultural Marketing Service.

[FR Doc. E7-3262 Filed 2-26-07; 8:45 am]

BILLING CODE 3410-02-P